LEGAL SERVICES CORPORATION

Sunshine Act Meeting of the Board of Directors Committee on Provision for the Delivery of Legal Services

TIME AND DATE: The Committee on Provision for the Delivery of Legal Services of the Legal Services Corporation Board of Directors will meet on June 25, 2000. The meeting will begin at 9:30 a.m. and continue until the Committee concludes its agenda.

LOCATION: Radisson Plaza Hotel Minneapolis, 35 South 7th Street, Minneapolis, MN 55402.

STATUS OF MEETING: Open.

MATTERS TO BE CONSIDERED:

1. Approval of agenda.

2. Approval of the minutes of the Committee's meeting of April 14, 2000.

3. Staff report on the status of the development of new performance guidelines to measure outcomes in casework, community education, and outreach.

4. Staff report, plans, and preparations for 2001 conference on client-centered legal services.

5. Field presentation on legal services to Native Americans, farmers, and victims of domestic violence in Minnesota.

6. Consider and act on other business.

7. Public comment.

CONTACT PERSON FOR INFORMATION: Victor M. Fortuno, Vice President for Legal Affairs, General Counsel and Secretary of the Corporation, at (202) 336-8800.

dated: June 15, 2000.

SPECIAL NEEDS: Upon request, meeting notices will be made available in alternate formats to accommodate visual and hearing impairments. Individuals who have a disability and need an accommodation to attend the meeting may notify Shannon Nicko Adaway, at (202) 336-8800.

Dated: June 15, 2000.
Victor M. Fortuno,
Vice President for Legal Affairs, General Counsel and Corporate Secretary.

[FR Doc. 00-15711 Filed 6-16-00; 3:47 pm]

BILLING CODE 7050-01-P